DEPARTMENT OF ENERGY

Federal Energy Regulatory Commission

Combined Notice of Filings #1

Take notice that the Commission received the following exempt wholesale generator filings:

Docket Numbers: EG25-280-000.

Applicants: White Tail Solar, LLC.

Description: White Tail Solar, LLC submits Notice of Self-Certification of Exempt Wholesale Generator Status.

Filed Date: 4/9/25.

Accession Number: 20250409-5080.

Comment Date: 5 p.m. ET 4/30/25.

Docket Numbers: EG25-281-000.

Applicants: Hermes BESS LLC.

Description: Hermes BESS LLC submits Notice of Self-Certification of Exempt Wholesale Generator Status.

Filed Date: 4/9/25.

Accession Number: 20250409-5159.

Comment Date: 5 p.m. ET 4/30/25.

Take notice that the Commission received the following electric rate filings:

Docket Numbers: ER25-1409-000.

Applicants: Sky Ranch Energy Storage II, LLC.

Description: Supplement to 02/25/2025, Sky Ranch Energy Storage II, LLC tariff filing.

Filed Date: 4/4/25.

Accession Number: 20250404-5239.

Comment Date: 5 p.m. ET 4/14/25.

Docket Numbers: ER25-1906-000.

Applicants: Pacific Gas and Electric Company.

Description: Tariff Amendment: TO SA 489: Metcalf Energy Center Unexecuted LGIA—Termination to be effective 3/19/2025.

Filed Date: 4/9/25.

Accession Number: 20250409-5000.

Comment Date: 5 p.m. ET 4/30/25.

Docket Numbers: ER25-1907-000.

Applicants: PJM Interconnection, L.L.C.

Description: 205(d) Rate Filing: Amendment to Service Agreement No. 6278; Queue No. AD2-048 to be effective 6/9/2025.

Filed Date: 4/9/25.

Accession Number: 20250409-5032.

Comment Date: 5 p.m. ET 4/30/25.

Docket Numbers: ER25-1908-000.

Applicants: Dominion Energy South Carolina, Inc.

Description: eTariff Filing.

Filed Date: 4/9/25.

Accession Number: 20250409-5105.

Comment Date: 5 p.m. ET 4/30/25.

Docket Numbers: ER25-1909-000.

Applicants: Dominion Energy South Carolina, Inc.

Description: eTariff Filing.

Filed Date: 4/9/25.

Accession Number: 20250409-5106.

Comment Date: 5 p.m. ET 4/30/25.

Docket Numbers: ER25-1910-000.

Applicants: White Tail Solar, LLC.

Description: 205(d) Rate Filing: Application for Market-Based Rate Authority to be effective 6/9/2025.

Filed Date: 4/9/25.

Accession Number: 20250409-5074.

Comment Date: 5 p.m. ET 4/30/25.

Docket Numbers: ER25-1911-000.

Applicants: Monterey SW LLC.

Description: Tariff Amendment: Notice of Cancellation of Market-Based Rate Tariff to be effective 4/10/2025.

Filed Date: 4/9/25.

Accession Number: 20250409-5103.

Comment Date: 5 p.m. ET 4/30/25.

Docket Numbers: ER25-1912-000.

Applicants: Cleco Power LLC.

Description: 205(d) Rate Filing: Wholesale Distribution Service Agreements to be effective 4/1/2025.

Filed Date: 4/9/25.

Accession Number: 20250409-5117.

Comment Date: 5 p.m. ET 4/30/25.

Docket Numbers: ER25-1913-000.

Applicants: Upper Missouri G. & T. Electric Cooperative, Inc.

Description: 205(d) Rate Filing: Upper Missouri Revised Rate Schedule No. 5 Filing to be effective 6/8/2025.

Filed Date: 4/9/25.

Accession Number: 20250409-5130.

Comment Date: 5 p.m. ET 4/30/25.

Docket Numbers: ER25-1914-000.

Applicants: PJM Interconnection, L.L.C.

Description: 205(d) Rate Filing: Original GIA Service Agreement No. 7619; Project Identifier #AG1-414 to be effective 3/10/2025.

Filed Date: 4/9/25.

Accession Number: 20250409-5150.

Comment Date: 5 p.m. ET 4/30/25.

Docket Numbers: ER25-1915-000.

Applicants: PJM Interconnection, L.L.C.

Description: 205(d) Rate Filing: Original CSA Service Agreement No. 7620; Project Identifier No. AG1-414 to be effective. 3/10/2025.

Filed Date: 4/9/25.

Accession Number: 20250409-5156.

Comment Date: 5 p.m. ET 4/30/25.

Docket Numbers: ER25-1916-000.

Applicants: LRE Interconnection Manager, LLC.

Description: 205(d) Rate Filing: Shared Facilities Common Ownership Agreement to be effective 4/10/2025.

Filed Date: 4/9/25.

Accession Number: 20250409-5157.

Comment Date: 5 p.m. ET 4/30/25.

Docket Numbers: ER25-1917-000.

Applicants: PJM Interconnection, L.L.C.

Description: Tariff Amendment: Notice of Cancellation of WMPA, SA No. 7305; Project Identifier No. AF2-380 to be effective 5/6/2025.

Filed Date: 4/9/25.

Accession Number: 20250409-5165.

Comment Date: 5 p.m. ET 4/30/25.

The filings are accessible in the Commission's eLibrary system (https://elibrary.ferc.gov/idmws/search/fercgensearch.asp) by querying the docket number.

Any person desiring to intervene, to protest, or to answer a complaint in any of the above proceedings must file in accordance with Rules 211, 214, or 206 of the Commission's Regulations (18 CFR 385.211, 385.214, or 385.206) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

The Commission's Office of Public Participation (OPP) supports meaningful public engagement and participation in Commission proceedings. OPP can help members of the public, including landowners, community organizations, Tribal members and others, access publicly available information and navigate Commission processes. For public inquiries and assistance with making filings such as interventions, comments, or requests for rehearing, the public is encouraged to contact OPP at (202) 502-6595 or OPP@ferc.gov.

Dated: April 9, 2025.
Carlos D. Clay,
Deputy Secretary.

[FR Doc. 2025-06364 Filed 4-14-25; 8:45 am]

BILLING CODE 6717-01-P